DEPARTMENT OF AGRICULTURE

Food Safety and Inspection Service

[Docket No. FSIS-2006-0032]

Codex Alimentarius Commission: Sixth Session of the Codex ad hoc Intergovernmental Task Force on Foods Derived From Biotechnology

AGENCY: Office of the Under Secretary for Food Safety, USDA.

ACTION: Notice of public meeting.

SUMMARY: The Office of the Under Secretary for Food Safety, United States Department of Agriculture (USDA), and the Food And Drug Administration (FDA) are sponsoring a public meeting on November 14, 2006 to discuss the agenda items coming before the Sixth Session of the Codex ad hoc Intergovernmental Task Force on Foods Derived from Biotechnology (FBT) of the Codex Alimentarius Commission (Codex) and present draft U.S. positions on the agenda items. The Sixth Session of the FBT will be held in Chiba, Japan, November 27-December 1, 2006. The Under Secretary and FDA recognize the importance of providing interested parties the opportunity to comment on the agenda items that will be debated at this forthcoming Session of the FBT.

DATES: The public meeting is scheduled for Tuesday, November 14, 2006 from 2 p.m. to 4 p.m.

ADDRESSES: The public meeting will be held in Room 107A, Jamie Whitten Building, 1400 Independence Ave. SW., Washington, DC. Documents related to the Sixth Session of the FBT will be accessible via the World Wide Web at the following address: http://www.codexalimentarius.net/current.asp.

For Further Information About the Sixth Session of the FBT, Contact: U.S. Delegate, Dr. Eric Flamm, Senior Advisor, Office of the Commissioner, Food and Drug Administration (HF-23), Parklawn Building, Rockville, MD 20857, Phone (301) 827-0591, Fax (301) 827-4774, E-mail: eric.flamm@fda.hhs.gov.

For Further Information About the Public Meeting Contact: Edith Kennard, Staff Officer, U.S. Codex Office, Food Safety and Inspection Service, Room 4861, South Building, 1400 Independence Avenue SW., Washington, DC 20250, Phone: (202) 720-5261, Fax: (202) 720-3157, E-mail: edith.kennard@fsis.usda.gov.

SUPPLEMENTARY INFORMATION:

Background

The Codex Alimentarius (Codex) was established in 1962 by two United Nations organizations, the Food and Agriculture Organization and the World Health Organization. Through adoption of food standards, codes of practice, and other guidelines developed by its committees, and by promoting their adoption and implementation by governments, Codex seeks to protect the health of consumers and ensure fair practices in trade. In the United States, USDA, FDA, and the Environmental Protection Agency manage and carry out U.S. Codex activities.

The Codex ad hoc Intergovernmental Task Force on Foods Derived from Biotechnology was established by the 23rd Session of the Codex Alimentarius Commission in 1999 to elaborate standards, guidelines, or other principles as relates to foods derived from biotechnology. The Task Force completed its mandates within its four-year timeframe and was dissolved by the 26th Session of the Commission. The 27th Session re-established the Task Force for another four-year period. The Task Force is hosted by the government of Japan.

Issues To Be Discussed at the Public Meeting

The following items on the agenda for the Sixth Session of the FBT will be discussed during the public meeting:

• Matters referred to the Committee from other Codex bodies.

• Review of the Work by International Organizations on the Evaluation of the Safety and Nutrition Aspects of Foods Derived from Biotechnology.

• Proposed Draft Guideline for the Conduct of Food Safety Assessment of Foods Derived from Recombinant-DNA Animals.

• Proposed Draft Annex (scoping document) to the Guideline for the Conduct of Food Safety Assessment of Foods Derived from Recombinant-DNA Plants; Food Safety Assessment of Food Derived from Recombinant-DNA Plants Modified for Nutritional or Health Benefits.

• Discussion Paper on Comparative Food Composition Analysis of Staple Foods.

• Discussion Paper on Sanitary Surveillance after Placing on the Market Foods Derived from Biotechnology.

• Discussion Paper on Safety Assessment of Foods Derived from Animals Exposed to Protection against Disease through Gene Therapy or Recombinant-DNA Vaccines.

Each issue listed will be fully described in documents distributed, or to be distributed, by the Japanese Secretariat to the Meeting. Members of the public may access copies of these documents at http://www.codexalimentarius.net/ current.asp.

Public Meeting

At the November 14, 2006 public meeting, draft U.S. positions on these agenda items will be described and discussed, and attendees will have the opportunity to pose questions and offer comments. Written comments may be offered at the meeting or sent to the U.S. Delegate of the FBT, Dr. Eric Flamm at eric.flamm@fda.hhs.gov. Written comments should state that they relate to activities of the Sixth Session of the FBT.

Additional Public Notification

Public awareness of all segments of rulemaking and policy development is important. Consequently, in an effort to ensure that minorities, women, and persons with disabilities are aware of this notice, FSIS will announce it on-line through the FSIS Web page located at http://www.fsis.usda.gov/ regulations/2006_Notices _Index/. FSIS also will make copies of this Federal Register publication available through the FSIS Constituent Update, which is used to provide information regarding FSIS policies, procedures, regulations, Federal Register notices, FSIS public meetings, recalls, and other types of information that could affect or would be of interest to constituents and stakeholders. The update is communicated via Listserv, a free electronic mail subscription service for industry, trade and farm groups, consumer interest groups, allied health professionals, and other individuals who have asked to be included. The update is available on the FSIS Web page. Through the Listserv and Web page, FSIS is able to provide information to a much broader and more diverse audience. In addition, FSIS offers an e-mail subscription service which provides automatic and customized access to selected food safety news and information. This service is available at http://www.fsis.usda.gov/news_and _events/email_subscription/. Options range from recalls to export information to regulations, directives and notices. Customers can add or delete subscriptions themselves and have the option to password protect their account.

Done at Washington, DC, on: October 25, 2006.
F. Edward Scarbrough,
U.S. Manager for Codex Alimentarius.

[FR Doc. E6-18145 Filed 10-27-06; 8:45 am]

BILLING CODE 3410-DM-P